DEPARTMENT OF ENERGY

Federal Energy Regulatory Commission

[EG18-117-000, EG18-119-000, EG18-120-000, EG18-121-000, EG18-122-000, EG18-123-000]

Notice of Effectiveness of Exempt Wholesale Generator Status: Persimmon Creek Wind Farm 1, LLC; Stillwater Wind, LLC; Crazy Mountain Wind LLC; Blue Cloud Wind Energy, LLC; Green River Wind Farm Phase 1, LLC; Santa Rita East Wind Energy LLC

Take notice that during the month of October 2018, the status of the above-captioned entities as Exempt Wholesale Generators became effective by operation of the Commission's regulations. 18 CFR 366.7(a) (2018).

Dated: November 16, 2018.
Nathaniel J. Davis, Sr.,
Deputy Secretary.

[FR Doc. 2018-25755 Filed 11-26-18; 8:45 am]

BILLING CODE 6717-01-P